DEPARTMENT OF AGRICULTURE

Forest Service

Information Collection; Arctic National Wildlife Refuge Recreation Visitor Study

AGENCY: Forest Service, USDA.

ACTION: Notice; request for comment.

SUMMARY: In accordance with the Paperwork Reduction Act of 1995, the Forest Service is seeking comments from all interested individuals and organizations on the new information collection: Arctic National Wildlife Refuge Recreation Visitor Study—2009.

DATES: Comments must be received in writing on or before October 26, 2009 to be assured of consideration. Comments received after that date will be considered to the extent practicable.

ADDRESSES: Comments concerning this notice should be addressed to Alan E. Watson, Aldo Leopold Wilderness Research Institute, Forest Service, Rocky Mountain Research Station, 790 E. Beckwith Ave., Missoula, MT 59801.

Comments also may be submitted via facsimile to 406-542-4196 or by e-mail to: awatson@fs.fed.us.

The public may inspect comments received at the Aldo Leopold Wilderness Research Institute, Forest Service, Rocky Mountain Research Station, 790 E. Beckwith Ave., Missoula, MT, during normal business hours. Visitors are encouraged to call ahead to 406-542-4197 to facilitate entry to the building.

FOR FURTHER INFORMATION CONTACT: Alan E. Watson, Aldo Leopold Wilderness Research Institute at 406-542-4197. Individuals who use TDD may call the Federal Relay Service (FRS) at 1-800-877-8339, 24 hours a day, every day of the year, including holidays.

SUPPLEMENTARY INFORMATION:

Title: Arctic National Wildlife Refuge Recreation Visitor Study—2009.

OMB Number: 0596-NEW.

Expiration Date of Approval: This information collection will expire 3 years from the date of OMB approval.

Type of Request: New.

Abstract: The Aldo Leopold Wilderness Research Institute in Missoula, Montana, works under an interagency agreement with the U.S. Fish & Wildlife Service of the U.S. Department of the Interior to provide information to support management planning for public wilderness areas and National Wildlife Refuge. Management of specific refuges is directed by laws, policies, and Comprehensive Conservation Plans. The Wilderness Act of 1964 directs the National Wilderness Preservation System be managed to protect natural wilderness conditions and to provide outstanding opportunities for the public to find solitude or primitive and unconfined types of recreational experiences. The Arctic National Wildlife Refuge contains 8 million acres of federally protected wilderness, the Molly Beattie Wilderness and over 11 million acres of land and water managed for multiple values including subsistence, wildlife, water quality, and scenic values. The Arctic National Wildlife Refuge is also mandated to provide recreation experiences to visitors under a number of laws, including the National Wildlife Refuge System Administration Act, as amended by the National Wildlife Refuge System Improvement Act, the Refuge Recreation Act, and the Alaska National Interest Lands Conservation Act.

To help meet Federal agencies' mandates related to recreation, scientists at the Aldo Leopold Wilderness Research Institute periodically monitor and report to managers and the public visitor use and user characteristics and visitor feedback on management actions on Federal lands. Agency personnel use the information to ensure that visitors' recreational activities do not harm natural resources of the refuge, and that recreation experiences in wilderness areas are protected.

In the 2009 survey, the Agency intends to record responses of visitors to the Arctic National Wildlife Refuge in the same areas as the survey that was conducted in 1977, prior to the area attaining National Wildlife Refuge and wilderness area designation status. The Agency intends to expand the survey to include visitor feedback regarding major factors that influence the experiences in the area, including encounters with other visitors, subsistence use, research, administrative use, and availability of information needed to plan trips. The data from this information collection would be stored at the Aldo Leopold Wilderness Research Institute in Missoula, Montana. Scientists working at the Research Institute would conduct the data analysis.

The U.S. Fish & Wildlife Service would use information from this collection to:

(1) Understand visitor demographics, frequency of visits, and residence;

(2) Understand visitor activities, such as whether they are hunting, river floating, method of access, size of group, difficulty in finding campsites, conditions encountered, and information available for trip planning;

(3) Understanding how the Agency's management of the Arctic National Wildlife Refuge and other potential facilitating and constraining factors influence a visitor's recreation experience;

(4) Understand how to educate recreation visitors so they do not leave impacts from their visits; such as wildlife disturbance, damaged vegetation, litter, and polluted lakes and streams, and can engage in high quality, and safe recreational experiences; and

(5) Provide information that may assist in revision of the Arctic National Wildlife Refuge Comprehensive Conservation Plan.

Respondents would be recreation visitors to the Arctic National Wildlife Refuge. Visitors would be contacted as they enter or exit the Arctic National Wildlife Refuge and would be provided with a self-addressed, postage-pre-paid postcard that offers them alternative methods of response to the survey: (1) Mail the postcard to the Leopold Institute with a name and address to have the survey sent to them, (2) mail the postcard to the Leopold Institute with an electronic e-mail address to obtain an electronic version of the survey, or (3) use the Web address on the postcard to access the survey. All responses would be voluntary and anonymous (names would not be connected with responses in any way). Data collected in this information collection are not available from other sources and have not been collected since 1977.

This study would only ask non-local recreation visitors, non-local, non-subsistence users questions about their recreation visit, their personal demographics relevant to provision of service and educational research, and factors that have influenced or are likely to influence their recreation visits. Survey respondents would be told that their responses are voluntary and would be anonymous. The survey will not include questions related to oil exploration or development in the boundaries of the Arctic National Wildlife Refuge.

Estimate of Annual Burden: 20 minutes.

Type of Respondents: Individuals who use government facilities and services.

Estimated Annual Number of Respondents: 900.

Estimated Annual Number of Responses per Respondent: Once.

Estimated Total Annual Burden on Respondents: 300 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the additional use of automated, electronic, mechanical, or other technological collection techniques or other forms of information technology.

All comments received in response to this notice, including names and addresses when provided, will be a matter of public record. Comments will be summarized and included in the request for Office of Management and Budget approval.

Dated: August 13, 2009.
William J. Lange,
Acting Deputy Chief, Research & Development.

[FR Doc. E9-20442 Filed 8-24-09; 8:45 am]

BILLING CODE 3410-11-P